DEPARTMENT OF AGRICULTURE

Food and Nutrition Service

Agency Information Collection Activities: Proposed Collection; Comment Request—Uniform Grant Application Package for Discretionary Grant Programs

AGENCY: Food and Nutrition Service (FNS), USDA.

ACTION: Notice.

SUMMARY: In accordance with the Paperwork Reduction Act of 1995, this notice invites the general public and other public agencies to comment on this proposed information collection. This collection is a revision of a currently approved collection.

The purpose of the Uniform Grant Application Package for Discretionary Grant Programs is to provide a standardized format for the development of all Requests for Applications for discretionary grant programs released by the Food and Nutrition Service (FNS) Agency and to allow for a more expeditious OMB clearance process.

DATES: Written comments must be received on or before September 25, 2012.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. Comments may be sent to: Lael Lubing, Food and Nutrition Service, U.S. Department of Agriculture, 3101 Park Center Drive, Room 732, Alexandria, VA 22302. Comments may also be submitted via fax to the attention of Lael Lubing at 703-605-0363 or via email to lael.lubing@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Lael Lubing at 703-305-2048.

SUPPLEMENTARY INFORMATION:

Title: Uniform Grant Application Package for Discretionary Grant Programs.

Form Number: SF-425.

OMB Number: 0584-0512.

Expiration Date: September 30, 2012.

Type of Request: Revision of a currently approved collection.

Abstract: FNS has a number of discretionary grant programs. (Consistent with the definition in 7 CFR part 3016, the term “grant” as used in this notice includes cooperative agreements.) The authorities for these grants vary and will be cited as part of each grant application solicitation. The purpose of the revision to the currently approved collection for the Uniform Grant Application Package for Discretionary Grant Programs is to continue the authority for the established uniform grant application package and to update the number of collection burden hours. The uniform collection package is useable for all of FNS' discretionary grant programs to collect information from grant applicants that are needed to evaluate and rank applicants and protect the integrity of the grantee selection process. All FNS discretionary grant programs will be eligible, but not required, to use the uniform grant application package. Before soliciting applications for a discretionary grant program, FNS will decide whether the uniform grant application package will meet the needs of that grant program. If FNS decides to use the uniform grant application package, FNS will note in the grant solicitation that applicants must use the uniform grant application package and that the information collection has already been approved by OMB. If FNS decides not to use the uniform grant application package or determines that it needs grant applicants to provide additional information not contained in the uniform package, then FNS will publish a notice soliciting comments on its proposal to collect different or additional information before making the grant solicitation.

The uniform grant application package will include general information and instructions; a checklist; a requirement for the program narrative statement describing how the grant objectives will be reached; the Standard Form (SF) 424 series that request basic information, including budget information and a disclosure of lobbying activities certification (SF-LLL). In addition, grantees are required to submit the SF-425. The SF-425 is approved by OMB; however, reporting and recordkeeping burden hours associated with this form must be accounted for in each agency's information request packages.

The proposed information collection covered by this notice is related to the requirements for the program narrative statement. The requirements for the program narrative statement are based on the requirements for program narrative statements described in section 1c(5) of the OMB Circular A-102 and will apply to all types of grantees—State and Local governments, Indian Tribal organizations, Non-Profit organizations, Institutions of Higher Education, and For-Profit organizations. The information collection burden related to the SF-424 series, and the lobbying certification forms have been separately approved by OMB.

Reporting Burden

Affected Public: (State, Local, and Tribal Government, Universities, Business-for and not-for-profit).

Pre-Award

Estimated Number of Respondents: 1,505.

Number of Responses per Respondent: 1.

Estimated Total Annual Responses: 1505.

Hours per Response: 80.

Estimated Total Annual Reporting Burden: 120,400.

Post Award

Estimated Number of Respondents: 296.

Number of Responses per Respondent: 5.

Estimated Total Annual Responses: 1480.

Hours per Response: 2.25.

Estimated Total Annual Reporting Burden: 3,330.

Grand Total Estimated Total Annual Reporting Burden: 123,730.

Recordkeeping Burden

Estimated Number of Recordkeepers: 296.

Estimated Number of Records: 5.

Estimated Annual Records: 1,480.

Estimated Annual Hours per Recordkeeper: .1169.

Estimated Total Annual Recordkeeping Burden: 173.

Estimated Grand Total for Reporting and Recordkeeping Burden: 124,199.

Total Annual Reporting Hours: 123,730.

Total Recordkeeper Responses: 296.

Total Recordkeeping Hours: 173.

Summary Level Recap—Affected Public: State, Local and Tribal Government, Universities, and Business-for and Not-for-Profit Annual Discretionary Grants/Cooperative Agreements
A.12-1—Reporting Burden for Pre-Award Estimates of Burden Hours
Type of applicant | Total estimated number of respondents (responses) | Frequency of response per respondent | Total estimated annual responses | Estimated time (hours) to complete each application | Estimated burden hours
State & Local Government | 916 | 1 | 916 | 80 | 73,280
Indian Tribal Governments | 29 | 1 | 29 | 80 | 2,320
SUB-TOTAL STATE, LOCAL & INDIAN TRIBAL GOVERNMENTS | 945 | N/A | 945 | N/A | 75,600
Non-profit Organizations | 500 | 1 | 500 | 80 | 40,000
Universities | 10 | 1 | 10 | 80 | 800
SUB-TOTAL NON-PROFIT ORGANIZATIONS | 510 | N/A | 510 | N/A | 40,800
Produce Groups | 50 | 1 | 50 | 80 | 4,000
SUB-TOTAL BUSINESS OR OTHER FOR-PROFIT | 50 | N/A | 50 | N/A | 4,000
SUB-TOTAL | 1,505 |  | 1,505 |  | 120,400

A.12-1a Reporting Burden for Post-Award Estimates of Burden Hours
Action | Number of respondents | Number of annual response | Total annual response | Hours per response | Total annual burden
Quarterly Progress and Financial Reports | 212 | 4 | 848 | 2.25 | 1,908.00
Annual Final Report | 212 | 1 | 212 | 2.25 | 477.00
SUB-TOTAL STATE, LOCAL & TRIBAL GOVERNEMENTS | 212 | N/A | 1,060 | N/A | 2,385.00
Quarterly Progress and Financial Reports | 78 | 4 | 312 | 2.25 | 702.00
Annual Final Report | 78 | 1 | 78 | 2.25 | 175.50
SUB-TOTAL NON-PROFIT ORGANIZATIONS | 78 | N/A | 390 | N/A | 877.50
Quarterly Progress and Financial Reports | 6 | 4 | 24 | 2.25 | 54.00
Annual Final Report | 6 | 1 | 6 | 2.25 | 13.50
SUB-TOTAL BUSINESS OR OTHER FOR-PROFIT | 6 | N/A | 30 | N/A | 67.50
Recordkeeper Responses | N/A | N/A | 296 | N/A | N/A
Post-Award Total Reporting Annualized Burden Estimates | 296 | N/A | 1,776 | N/A | 3,330.00

A.12-1b—Recordkeeping Burden for Post-Award Estimates of Burden Hours
Action | Number of respondents | Number of annual response | Total annual response | Hours per response | Total annual burden
Quarterly Progress and Financial Reports | 212 | 4 | 848 | .1169 | 99.13
Annual/Final Report | 212 | 1 | 212 | .1169 | 24.78
SUB-TOTAL STATE, LOCAL & TRIBAL GOVERNEMENTS | 212 | N/A | 1,060 | N/A | 123.91
Quarterly Progress and Financial Reports | 78 | 4 | 312 | .1169 | 36.47
Annual/Final Report | 78 | 1 | 78 | .1169 | 9.12
SUB-TOTAL NON-PROFIT ORGANIZATIONS | 78 | N/A | 390 | N/A | 45.59
Quarterly Progress and Financial Reports | 6 | 4 | 24 | .1169 | 2.80
Annual/Final Report | 6 | 1 | 6 | .1169 | .70
SUB-TOTAL BUSINESS OR OTHER FOR-PROFIT | 6 | N/A | 30 | N/A | 3.50
Post-Award Total Annualized Recordkeeping Burden Estimates | 296 | N/A | 1,480 | N/A | 173.00

Dated: July 20, 2012.
Robin D. Bailey Jr.,
Acting Administrator, Food and Nutrition Service.

[FR Doc. 2012-18323 Filed 7-26-12; 8:45 am]

BILLING CODE 3410-30-P